COMMITTEE FOR PURCHASE FROM PEOPLE WHO ARE BLIND OR SEVERELY DISABLED

Procurement List Deletions

AGENCY: Committee for Purchase From People Who Are Blind or Severely Disabled.

ACTION: Deletions from the Procurement List.

SUMMARY: This action deletes products and services from the Procurement List previously furnished by nonprofit agencies employing persons who are blind or have other severe disabilities.

DATES: Effective Date: 10/9/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 8/5/2016 (81 FR 51865-51866) and 8/26/2016 (81 FR 58913-58917), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

8415-00-NSH-0376—Coat, Combat, BDU, Army, Urban Camouflage, XS-XS

8415-00-NSH-0377—Coat, Combat, BDU, Army, Urban Camouflage, XS-S

8415-00-NSH-0378—Coat, Combat, BDU, Army, Urban Camouflage, XS-R

8415-00-NSH-0379—Coat, Combat, BDU, Army, Urban Camouflage, SX-XS

8415-00-NSH-0380—Coat, Combat, BDU, Army, Urban Camouflage, S-XS

8415-00-NSH-0381—Coat, Combat, BDU, Army, Urban Camouflage, SS

8415-00-NSH-0382—Coat, Combat, BDU, Army, Urban Camouflage, SR

8415-00-NSH-0383—Coat, Combat, BDU, Army, Urban Camouflage, SL

8415-00-NSH-0384—Coat, Combat, BDU, Army, Urban Camouflage, SXL

8415-00-NSH-0385—Coat, Combat, BDU, Army, Urban Camouflage, M-XXS

8415-00-NSH-0386—Coat, Combat, BDU, Army, Urban Camouflage, M-XS

8415-00-NSH-0387—Coat, Combat, BDU, Army, Urban Camouflage, M-S

8415-00-NSH-0388—Coat, Combat, BDU, Army, Urban Camouflage, M-R

8415-00-NSH-0389—Coat, Combat, BDU, Army, Urban Camouflage, M-L

8415-00-NSH-0390—Coat, Combat, BDU, Army, Urban Camouflage, M-XL

8415-00-NSH-0391—Coat, Combat, BDU, Army, Urban Camouflage, L-XS

8415-00-NSH-0392—Coat, Combat, BDU, Army, Urban Camouflage, L-S

8415-00-NSH-0393—Coat, Combat, BDU, Army, Urban Camouflage, L-R

8415-00-NSH-0394—Coat, Combat, BDU, Army, Urban Camouflage, L-L

8415-00-NSH-0395—Coat, Combat, BDU, Army, Urban Camouflage, L-XL

8415-00-NSH-0396—Coat, Combat, BDU, Army, Urban Camouflage, XL-R

8415-00-NSH-0397—Coat, Combat, BDU, Army, Urban Camouflage, XL-LL

Contracting Activity: Army Contracting Command—Aberdeen Proving Ground, Natick Contracting Division

Services

Service Type: Mess Attendant Service

Mandatory for: 185th Air Refueling Wing Dining Hall, Building 263, 2920 Headquarters Avenue, Sioux City, IA

Service Type: Custodial Service

Mandatory for: 185th Air Refueling Wing, Buildings 234 and 241, 2920 Headquarters Avenue, Sioux City, IA

Mandatory Source(s) of Supply: Goodwill Community Rehabilitation Services, Inc., Sioux City, IA

Contracting Activity: Dept of the Army, W7M8 USPFO ACTIVITY IA ARNG

Service Type: Administrative/General Support Service

Mandatory for: GSA, Southwest Supply Center, 819 Taylor Street, Fort Worth, TX

Mandatory Source(s) of Supply: San Antonio Lighthouse for the Blind, San Antonio, TX

Contracting Activity: General Services Administration, FPDS Agency Coordinator

Barry S. Lineback,
Director, Business Operations.

[FR Doc. 2016-21736 Filed 9-8-16; 8:45 am]

BILLING CODE 6353-01-P